TENNESSEE VALLEY AUTHORITY

Charter Renewal of the Regional Resource Stewardship Council

AGENCY: Tennessee Valley Authority (TVA).

ACTION: Renewal of Federal Advisory Committee.

SUMMARY: Pursuant to the Federal Advisory Committee Act (FACA), the TVA Board of Directors has renewed the Regional Energy Resource Council (RRSC) charter for an additional two-year period beginning on April 28, 2020.

FOR FURTHER INFORMATION CONTACT: Cathy Coffey, 865-632-4494, ccoffey@tva.gov.

SUPPLEMENTARY INFORMATION: Pursuant to FACA and its implementing regulations, and following consultation with the Committee Management Secretariat, General Services Administration (GSA) in accordance with 41 CFR 102-3.60(a), notice is hereby given that the RRSC has been renewed for a two-year period beginning April 28, 2020. The RRSC will provide advice to TVA on its issues affecting natural resource stewardship activities. The RRSC was originally established in 2000 to advise TVA on its natural resource activities and the priority to be placed among competing objectives and values. It has been determined that the RRSC continues to be needed to provide an additional mechanism for public input regarding natural resource stewardship issues.

Dated: April 27, 2020.
Joseph J. Hoagland,
Vice President, Tennessee Valley Authority.

[FR Doc. 2020-10858 Filed 5-19-20; 8:45 am]

BILLING CODE 8120-08-P